ENVIRONMENTAL PROTECTION AGENCY

[EPA-HQ-ORD-2018-0774; FRL-9999-53-ORD]

Proposed Information Collection Request; Comment Request; Evaluating End User Satisfaction of EPA's Research Products (New)

AGENCY: Environmental Protection Agency (EPA).

ACTION: Notice.

SUMMARY: The Environmental Protection Agency is planning to submit an information collection request (ICR), “Evaluating Customer Satisfaction of EPA's Research Products” (EPA ICR No. 2593.01, OMB Control No. 2080-NEW) to the Office of Management and Budget (OMB) for review and approval in accordance with the Paperwork Reduction Act. Before doing so, EPA is soliciting public comments on specific aspects of the proposed information collection as described below. This is a request for approval of a new collection. An Agency may not conduct, or sponsor and a person is not required to respond to a collection of information unless it displays a currently valid OMB control number.

DATES: Comments must be submitted on or before November 12, 2019.

ADDRESSES: Submit your comments, referencing Docket ID No. EPA-HQ-ORD-2018-0774 online using www.Regulations.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Sean Paul, U.S. Environmental Protection Agency, Office of Program Accountability and Resource Management, Office of Research and Development, Mail Code 41182, 1200 Pennsylvania Ave. NW, Washington, DC 20460; telephone number: (202) 564-7099; fax number: (202) 565-2910; email address: paul.sean@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The purpose of this information collection is to survey stakeholders currently using the EPA's Office of Research and Development's (ORD) scientific research products to increase transparency and public participation, and to ascertain the quality, usability, and timeliness of the research products. ORD will collect these data to inform the annual end of year performance reporting to the Office of Management and Budget (OMB) that will be published each year in the Annual Performance Report (APR), which is part of the President's Budget Request and mandated under the Government Performance and Results Act (GPRA). The survey results will be used to estimate the degree to which ORD research products meet customer needs and will enable the improvement of the development and delivery of products. Some of the information reported on the form is confidential, which will be withheld from the public pursuant to Section 107(1) of the Ethics in Government Act of 1978. Participation is voluntary.

Form Numbers: None.

Respondents/affected entities: Life, physical and social science professionals.

Respondent's obligation to respond: Voluntary.

Estimated number of respondents: 250 (total).

Frequency of response: Annually.

Total estimated burden: .33 hours (per year). Burden is defined at 5 CFR 1320.03(b)

Total estimated cost: $4,785 (per year).

Changes in Estimates: This is a new ICR, therefore there is no change of hours in the total estimated respondent burden.

Dated: August 29, 2019.
Chris Robbins,
Acting Deputy Assistant Administrator for Management, Office of Research and Development.

[FR Doc. 2019-19883 Filed 9-12-19; 8:45 am]

BILLING CODE 6560-50-P